DEPARTMENT OF TRANSPORTATION

Federal Aviation Administration

14 CFR Part 97

[Docket No. 29908; Amdt. No. 1972]

Standard Instrument Approach Procedures; Miscellaneous Amendments

AGENCY: Federal Aviation Administration (FAA) DOT.

ACTION: Final rule

SUMMARY: This amendment establishes, amends, suspends, or revokes Standard Instrument Approach Procedures (SIAP's) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription—

Copies of all SIAP's, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes SIAP's. The complete regulatory description of each SIAP is contained in official FAA form documents which are incorporated by reference in this amendment under 5 U.S.C. 552(a), 1 CFR part 51, and § 14 CFR 97.20 of the Federal Aviation Regulations (FAR). The applicable FAA Forms are identified as FAA Form 8260-5. Materials incorporated by reference are available for examination or purchase as stated above.

The large number of SIAP's, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR sections, with the types and effective dates of the SIAPs. This amendment also identifies the airport, its location, the procedure identification and the amendment number.

The Rule

This amendment to part 97 is effective upon publication of each separate SIAP as contained in the transmittal. The SIAP's contained in this amendment are based on the criteria contained in the United States Standard for Terminal Instrument Procedures (TERPS). In developing these SIAPs, the TERPS criteria were applied to the conditions existing or anticipated at the affected airports.

The FAA has determined through testing that current non-localizer type, non-precision instrument approaches developed using the TERPS criteria can be flown by aircraft equipped with a Global Positioning System (GPS) and/or Flight Management System (FMS) equipment. In consideration of the above, the applicable SIAP's will be altered to include “or GPS or FMS” in the title without otherwise reviewing or modifying the procedure. (Once a stand alone GPS or FMS procedure is developed, the procedure title will be altered to remove “or GPS or FMS” from these non-localizer, non- precision instrument approach procedure titles.)

The FAA has determined through extensive analysis that current SIAP's intended for use by Area Navigation (RNAV) equipped aircraft can be flown by aircraft utilizing various other types of navigational equipment. In consideration of the above, those SIAP's currently designated as “RNAV” will be redesignated as “VOR/DME RNAV” without otherwise reviewing or modifying the SIAP's.

Because of the close and immediate relationship between these SIAP's and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on January 21, 2000.
L. Nicholas Lacey,
Director, Flight Standards Service.

Adoption of the Amendment

Accordingly, pursuant to the authority delegated to me, part 97 of the Federal Aviation Regulations (14 CFR part 97) is amended as follows:

PART 97—STANDARD INSTRUMENT APPROACH PROCEDURES

1. The authority citation for part 97 continues to read:

Authority: 49 U.S.C. 106(g), 40103, 40106, 40113-40114, 40120, 44502, 44514, 44701, 44719, 44721-44722.

§§ 97.23, 97.27, 97.33, and 97.35 [Amended]

2. Amend 97.23, 97.27, 97.33 and 97.35, as appropriate, by adding, revising, or removing the following SIAP's, effective at 0901 UTC on the dates specified:

* * *Effective February 24, 2000

Anchorage, AK, Anchorage Intl, VOR or GPS RWY 6R, Amdt 12B, CANCELLED

Anchorage, AK, Anchorage Intl, VOR RWY 6R, Amdt 12B

Kingman, AZ, Kingman, VOR/DME or GPS RWY 21, Amdt 6A, CANCELLED

Kingman, AZ, Kingman, VOR/DME RWY 21, Amdt 6A

Georgetown, DE, Georgetown/Sussex County, VOR/DME RNAV or GPS RWY 22, Amdt 3A, CANCELLED

Georgetown, DE, Georgetown/Sussex County, VOR/DME RNAV RWY 22, Amdt 3A

Brunswick, GA, Brunswick/Glynco Jetport, NDB or GPS RWY 7, Amdt 10, CANCELLED

Brunswick, GA, Brunswick/Glynco Jetport, NDB, RWY 7, Amdt 10

Hutchinson, KS, Hutchinson Muni, VOR or GPS RWY 3, Amdt 18B, CANCELLED

Hutchinson, KS, Hutchinson Muni, VOR RWY 3, Amdt 18B

Hutchinson, KS, Hutchinson Muni, NDB or GPS RWY 13, Amdt 14B, CANCELLED

Hutchinson, KS, Hutchinson Muni, NDB RWY 13, Amdt 14B

Minden, LA, Minden-Webster, NDB or GPS RWY 1, Amdt 2, CANCELLED

Minden, LA, Minden-Webster, NDB RWY 1, Amdt 2

Minden, LA, Minden-Webster, NDB or GPS RWY 19, Amdt 2, CANCELLED

Minden, LA, Minden-Webster, NDB RWY 19, Amdt 2

Ava, MO, Ava Bill Martin Memorial, VOR/DME RNAV or GPS RWY 31, Amdt 1A, CANCELLED

Ava, MO, Ava Bill Martin Memorial, VOR/DME RNAV RWY 31, Amdt 1A

Grain Valley, MO, Grain Valley /East Kansas City, VOR/DME RNAV or GPS RWY 27, Amdt 1, CANCELLED

Grain Valley, MO, Grain Valley /East Kansas City, VOR/DME RNAV RWY 27, Amdt 1

Rolla/Vichy, MO, Rolla National, VOR/DME or GPS RWY 4, Amdt 2B, CANCELLED

Rolla/Vichy, MO, Rolla National, VOR/DME RWY 4, Amdt 2B

Gulfport, MS, Gulfport-Biloxi Regional, VOR/DME or TACAN or GPS RWY 14, Amdt 2a, CANCELLED

Gulfport, MS, Gulfport-Biloxi Regional, VOR/DME or TACAN RWY 14, Amdt 2a

Ahoskie, NC, Ahoskie/Tri-County, NDB or GPS RWY 1, Amdt 1D, CANCELLED

Ahoskie, NC, Ahoskie/Tri-County, NDB RWY 1, Amdt 1D

Hebron, NE, Hebron Muni, NDB or GPS RWY 12, Amdt 3A, CANCELLED

Hebron, NE, Hebron Muni, NDB RWY 12, Amdt 3A

Clovis, NM, Clovis Muni, NDB or GPS RWY 4, Amdt 3, CANCELLED

Clovis, NM, Clovis Muni, NDB RWY 4, Amdt 3

Clovis, NM, Clovis Muni, VOR or GPS RWY 22, Amdt 3, CANCELLED

Clovis, NM, Clovis Muni, VOR RWY 22, Amdt 3

Middletown, NY, Randall, VOR or GPS RWY 8, Amdt 5, CANCELLED

Middletown, NY, Randall, VOR RWY 8, Amdt 5

Newburgh, NY, Stewart Intl, VOR/DME RNAV or GPS RWY 16, Amdt 2A, CANCELLED

Newburgh, NY, Stewart Intl, VOR/DME RNAV RWY 16, Amdt 2A

Newburgh, NY, Stewart Intl, VOR/DME RNAV or GPS RWY 27, Amdt 1A, CANCELLED

Newburgh, NY, Stewart Intl, VOR/DME RNAV RWY 27, Amdt 1A

Elk City, OK, Elk City Muni, VOR/DME RNAV or GPS RWY 17, Amdt 2A, CANCELLED

Elk City, OK, Elk City Muni, VOR/DME RNAV RWY 17, Amdt 2A

Enid, OK, Enid Woodring Muni, VOR or GPS RWY 17, Amdt 12, CANCELLED

Enid, OK, Enid Woodring Muni, VOR RWY 17, Amdt 12

Tipton, OK, Tipton Muni, VOR/DME or GPS RWY 17, Orig, CANCELLED

Tipton, OK, Tipton Muni, VOR/DME RWY 17, Orig

Watonga, OK, Watonga, NDB or GPS RWY 17, CANCELLED

Watonga, OK, Watonga, NDB RWY 17

Woodward, OK, Woodward/West Woodward, NDB or GPS RWY 17, Amdt 3, CANCELLED

Woodward, OK, Woodward/West Woodward, NDB RWY 17, Amdt 3

Brookings, SD, Brookings Muni, VOR or GPS RWY 12, Amdt 11, CANCELLED

Brookings, SD, Brookings Muni, VOR RWY 12, Amdt 11

Brookings, SD, Brookings Muni, VOR or GPS RWY 30, Amdt 10, CANCELLED

Brookings, SD, Brookings Muni, VOR RWY 30, Amdt 10

Lewisburg, TN, Lewisburg/Ellington, VOR/DME RNAV or GPS RWY 20, Orig. CANCELLED

Lewisburg, TN, Lewisburg/Ellington, VOR/DME RNAV RWY 20, Orig

Angleton/Lake Jackson, TX, Angleton/Brazoria County, NDB or GPS RWY 17, Amdt 2, CANCELLED

Angleton/Lake Jackson, TX, Angleton/Brazoria County, NDB RWY 17, Amdt 2

Baytown, TX, Baytown/RWJ Airpark, VOR/DME or GPS RWY 32, Amdt 4, CANCELLED

Baytown, TX, Baytown/RWJ Airpark, VOR/DME RWY 32, Amdt 4

Beaumont/Port Arthur, TX, Beaumont-Port Arthur/Southeast Texas Regional, NDB or GPS RWY 12, Amdt 18, CANCELLED

Beaumont/Port Arthur, TX, Beaumont-Port Arthur/Southeast Texas Regional, NDB RWY 12, Amdt 18

Beaumont/Port Arthur, TX, Beaumont-Port Arthur/Southeast Texas Regional, VOR OR GPS—A, Amdt 6, CANCELLED

Beaumont/Port Arthur, TX, Beaumont-Port Arthur/Southeast Texas Regional, VOR—A, Amdt 6

Beaumont/Port Arthur, TX, Beaumont-Port Arthur/Southeast Texas Regional, VOR or GPS—B, Amdt 6, CANCELLED

Beaumont/Port Arthur, TX, Beaumont-Port Arthur/Southeast Texas Regional, VOR—B, Amdt 6

Beaumont/Port Arthur, TX, Beaumont-Port Arthur/Southeast Texas Regional, VOR or GPS—C, Amdt 5, CANCELLED

Beaumont/Port Arthur, TX, Beaumont-Port Arthur/Southeast Texas Regional, VOR—C, Amdt 5

Beaumont/Port Arthur, TX, Beaumont-Port Arthur/Southeast Texas Regional, VOR/DME or GPS—D, Amdt 2, CANCELLED

Beaumont/Port Arthur, TX, Beaumont-Port Arthur/Southeast Texas Regional, VOR/DME—D, Amdt 2 College Station, TX, College Station/Easterwood Field, VOR/DME or GPS RWY 28, Amdt 12A, CANCELLED

College Station, TX, College Station/Easterwood field, VOR/DME, RWY 28, Amdt 12A

Georgetown, TX, Georgetown Muni, NDB or GPS RWY 18, Amdt 5, CANCELLED

Georgetown, TX, Georgetown Muni, NDB RWY 18, Amdt 5

Giddings, TX, Giddings-Lee County, NDB or GPS RWY 17, Amdt 2

Giddings, TX, Giddings-Lee County, NDB RWY 17

Giddings, TX, Giddings-Lee County, VOR/DME RNAV or GPS RWY 35, Amdt 1, CANCELLED

Giddings, TX, Giddings-Lee County, VOR/DME RNAV RWY 35, Amdt 1

Houston, TX, Houston-Southwest, VOR/DME RNAV or GPS RWY 9, Amdt 1B, CANCELLED

Houston, TX, Houston-Southwest, VOR/DME RNAV RWY 9, Amdt 1B

Houston, TX, Houston-Southwest, VOR/DME RNAV or GPS RWY 27, Amdt 2B, CANCELLED

Houston, TX, Houston-Southwest, VOR/DME RNAV RWY 27, Amdt 2B

Midland, TX, Midland Intl, NDB or GPS RWY 10, Amdt 10, CANCELLED

Midland, TX, Midland Intl, NDB RWY 10, Amdt 10

Waco, TX, Waco Regional, VOR or GPS RWY 14, Amdt 22, CANCELLED

Waco, TX, Waco Regional, VOR RWY 14, Amdt 22

Waco, TX, Waco Regional, NDB or GPS RWY 19, Amdt 18, CANCELLED

Waco, TX, Waco Regional, NDB RWY 19, Amdt 18

Waco, TX, Waco Regional, VOR/DME or GPS RWY 32, Amdt 14, CANCELLED

Waco, TX, Waco Regional, VOR/DME RWY 32, Amdt 14

Brigham City, UT, Brigham City, NDB or GPS RWY 34, Amdt 6A, CANCELLED

Brigham City, UT, Brigham City, NDB RWY 34, Amdt 6A

Ogden, UT, Ogden-Hinkley, VOR/DME RNAV or GPS RWY 3, Orig, CANCELLED

Ogden, UT, Ogden-Hinkley, VOR/DME RNAV RWY 3, Orig

Lyndonville, VT, Lyndonville/Caledonia County, NDB or GPS RWY 2, Amdt 3A, CANCELLED

Lyndonville, VT, Lyndonville/Caledonia County, NDB RWY 2, Amdt 3A

Guernsey, WY, Guernsey/Camp Guernsey, NDB or GPS RWY 32, Orig, CANCELLED

Guernsey, WY, Guernsey/Camp Guernsey, NDB RWY 32, Orig

[FR Doc. 00-2250 Filed 2-1-00; 8:45 am]

BILLING CODE 4910-13-M